DEPARTMENT OF HOMELAND SECURITY

Federal Emergency Management Agency

Agency Information Collection Activities: Submission for OMB Review; Comment Request

AGENCY: Federal Emergency Management Agency, DHS.

ACTION: Notice; 30-day notice and request for comments; Extension, without change, of a currently approved collection, OMB Number 1660-0038, FEMA Form—None.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Collection of Information

Title: Write Your Own (WYO) Company Participation Criteria; New Applicant.

OMB Number: 1660-0038.

Form Number(s): None.

Abstract: The Federal Government is a guarantor of flood insurance coverage issued under the WYO arrangement, which allows private insurance to write flood insurance policies. To determine eligibility for participation in the WYO Program, the National Flood Insurance Program requires a one-time application for participation from each new private insurance company seeking entry into the program. FEMA will review each application to determine eligibility to participate in the program.

Affected Public: Business or other for-profit.

Number of Respondents: 5.

Estimated Time per Respondent: 7 Hours.

Estimated Total Annual Burden Hours: 35 Hours.

Frequency of Response: Once Only.

Comments: Interested persons are invited to submit written comments on the proposed information collection to the Office of Information and Regulatory Affairs, Office of Management and Budget. Comments should be addressed to Desk Officer for the Department of Homeland Security, Federal Emergency Management Agency, and sent via electronic mail to oira.submission@omb.eop.gov or faxed to (202) 395-6974. Comments must be submitted on or before February 23, 2009.

FOR FURTHER INFORMATION CONTACT: Requests for additional information or copies of the information collection should be made to Acting Director, Records Management Division, 500 C Street, SW., Washington, DC 20472, Mail Drop Room 301, facsimile number (202) 646-3347, or e-mail address FEMA-Information-Collections@dhs.gov.

Samuel C. Smith,
Acting Director, Records Management Division, Office of Management, Federal Emergency Management Agency, Department of Homeland Security.

[FR Doc. E9-1288 Filed 1-22-09; 8:45 am]

BILLING CODE 9110-13-P